DEPARTMENT OF ENERGY

Federal Energy Regulatory Commission

[Docket No. RP04-374-000]

Granite State Gas Transmission, Inc.; Notice of Tariff Filing

July 8, 2004.

Take notice that on July 1, 2004, Granite State Gas Transmission, Inc. (Granite State) tendered for filing as part of its FERC Gas Tariff, Third Revised Volume No. 1, the following revised tariff sheets with a proposed effective date of August 1, 2004:

Twenty-eighth Revised Sheet No. 21

Twenty-ninth Revised Sheet No. 22

Twentieth Revised Sheet No. 23

First Revised Sheet No. 232, and

First Revised Sheet No. 233

Granite State states it is submitting the above-referenced revised tariff sheets for the purpose of eliminating the Research, Development and Demonstration (RD&D) funding surcharge currently reflected in Granite State's rates and collected on behalf of the Gas Research Institute (GRI).

Granite State states that copies of its filing have been mailed to all firm customers, interruptible customers, and affected state commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Magalie R. Salas,
Secretary.

[FR Doc. E4-1560 Filed 7-13-04; 8:45 am]

BILLING CODE 6717-01-P